DEPARTMENT OF JUSTICE

Antitrust Division

Notice Pursuant to the National Cooperative Research and Production Act of 1993—Maritime Sustainment Technology and Innovation Consortium

Notice is hereby given that, on January 19, 2022, pursuant to Section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, Advanced Conductor Technologies LLC, Boulder, CO; Advanced Cooling Technologies, Inc., Lancaster, PA; ALEX—Alternative Experts LLC, Marshall, VA; Amazon Web Services, Inc., Seattle, WA; AMPeers LLC, Houston, TX; Appleton Marine, Inc., Appleton, WI; Biconvex, Coral Gables, FL; Big Metal Additive, Denver, CO; Boston Engineering Corporation, Waltham, MA; Decatur Mold, Tool & Engineering, Inc., North Vernon, IN; Deloitte Consulting LLP, Arlington, VA; D-TA Systems Corporation, Arlington, VA; Engineered Coil Company d/b/a DRS Marlo Coil, High Ridge, MO; Expression Networks LLC, Washington, DC; Exyn Technologies, Inc., Philadelphia, PA; Huntington Ingalls Incorporated—Newport News Shipbuilding, Newport News, VA; Impact Resources, Inc. dba IR Technologies, Reston, VA; Inertial Labs, Inc., Paeonian Springs, VA; Intelligent Automation, A Bluehalo Company, Rockville, MD; IOMAXIS LLC, Lorton, VA; IT-Soft-USA, Inc., Chicago, IL; Kyntronics, Inc., Solon, OH; Mainstream Engineering, Rockledge, FL; MartinFederal Consulting, LLC, Huntsville, AL; Materials Sciences LLC, Horsham, PA; MicroStrategy Inc., Vienna, VA; Moog, Inc., Orrville, OH; Navmar Applied Sciences Corporation, Warminster, PA; Palantir USG, Inc, Palo Alto, CA; Peaxy, Inc., San Jose, CA; Peraton, Inc., Herndon, VA; Raytheon Technologies, San Diego, CA; Rockwell Collins, Inc., Cedar Rapids, IA; Scientific Research Corporation, North Charleston, SC; Sellers & Associates, LLC, Chesapeake, VA; SGSD Partners LLC dba Elevate Government Solutions, Washington, DC; Siemens Government Technologies, Inc., Reston, VA; Special Power Sources, Alliance, OH; Tai-Yang Research Company dba Energy to Power Solutions (e2P), Tallahassee, FL; TDI Novus, Inc., Philadelphia, PA; Teksouth Corporation, Gardendale, AL; Total Concepts of Design, Inc., Scottsburg, IN; Uptake Technologies, Chicago, IL; Whitney Strategic Services LLC, New York, NY; and WPI Services LLC dba Systecon North America, Juno Beach, FL, have been added as parties to this venture.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

The last notification was filed with the Department on October 11, 2021. A notice was published in the Federal Register pursuant to Section 6(b) of the Act on November 24, 2021 (86 FR 67083).

Suzanne Morris,
Chief, Premerger and Division Statistics, Antitrust Division.

[FR Doc. 2022-05103 Filed 3-9-22; 8:45 am]

BILLING CODE P